DEPARTMENT OF LABOR

Occupational Safety and Health Administration

[Docket No. OSHA-2014-0012]

Whistleblower Protection Advisory Committee (WPAC)

AGENCY: Occupational Safety and Health Administration (OSHA), Labor.

ACTION: Announcement of WPAC charter renewal.

SUMMARY: In accordance with the provisions of the Federal Advisory Committee Act (FACA), as amended (5 U.S.C., App. 2), and after consultation with the General Services Administration, the Secretary of Labor is renewing the charter for the Whistleblower Protection Advisory Committee. The Committee will better enable OSHA to perform its duties under the Occupational Safety and Health Act (the OSH Act) of 1970 (29 U.S.C. 655, 656). Authority to establish this Committee is at Section 11(c) of the Occupational Safety and Health Act, 29 U.S.C. 660(c); the Surface Transportation Assistance Act, 49 U.S.C. 31105; the Asbestos Hazard Emergency Response Act, 15 U.S.C. 2651; the International Safe Container Act, 46 U.S.C. 80507; the Safe Drinking Water Act, 42 U.S.C. 300j-9(i); the Federal Water Pollution Control Act, 33 U.S.C. 1367; the Toxic Substances Control Act, 15 U.S.C. 2622; the Solid Waste Disposal Act, 42 U.S.C. 6971; the Clean Air Act, 42 U.S.C. 7622; the Comprehensive Environmental Response, Compensation, and Liability Act, 42 U.S.C. 9610; the Energy Reorganization Act, 42 U.S.C. 5851; the Wendell H. Ford Aviation Investment and Reform Act for the 21st Century, 49 U.S.C. 42121; the Sarbanes-Oxley Act, 18 U.S.C. 1514A; the Pipeline Safety Improvement Act, 49 U.S.C. 60129; the Federal Railroad Safety Act, 49 U.S.C. 20109; the National Transit Systems Security Act, 6 U.S.C. 1142; the Consumer Product Safety Improvement Act, 15 U.S.C. 2087; the Affordable Care Act, 29 U.S.C. 218C; the Consumer Financial Protection Act, 12 U.S.C. 5567; the Seaman's Protection Act, 46 U.S.C. 2114; the FDA Food Safety Modernization Act, 21 U.S.C. 399d; and the Moving Ahead for Progress in the 21st Century Act, 49 U.S.C. 30171. The Committee is diverse and balanced, both in terms of categories of stakeholders (e.g., subject matter experts, labor, management, and state plans), and in the views and interests represented by the members.

FOR FURTHER INFORMATION CONTACT: Meghan Smith, OSHA, Directorate of Whistleblower Protection Programs, Room N-4624, U.S. Department of Labor, 200 Constitution Avenue NW., Washington, DC 20210; telephone (202) 693-2199; email smith.meghan.p@dol.gov.

SUPPLEMENTARY INFORMATION: The Committee will advise OSHA on ways to improve the fairness, efficiency, and transparency of OSHA's whistleblower investigations. This includes advice on improving the investigative and enforcement processes, the training of OSHA investigators, improving the regulations governing OSHA investigations, and cooperative activities with federal agencies responsible for areas also covered by the whistleblower protection statutes enforced by OSHA. The Committee will function solely as an advisory body in compliance with the provisions of FACA and OSHA's regulations covering advisory committees (29 CFR part 1912).

Authority and Signature

David Michaels, Ph.D., MPH, Assistant Secretary of Labor for Occupational Safety and Health, authorized the preparation of this notice under the authority granted by the Federal Advisory Committee Act (FACA), as amended (5 U.S.C. App. 2), its implementing regulations (41 CFR part 102-3), chapter 1600 of Department of Labor Management Series 3 (Mar. 17, 2008), Secretary of Labor's Order 1-2012 (Jan. 18, 2012), 77 FR 3912 (Jan. 25, 2012), and the Secretary of Labor's authority to administer the whistleblower provisions found in Section 11(c) of the Occupational Safety and Health Act, 29 U.S.C. 660(c); the Surface Transportation Assistance Act, 49 U.S.C. 31105; the Asbestos Hazard Emergency Response Act, 15 U.S.C. 2651; the International Safe Container Act, 46 U.S.C. 80507; the Safe Drinking Water Act, 42 U.S.C. 300j-9(i); the Federal Water Pollution Control Act, 33 U.S.C. 1367; the Toxic Substances Control Act, 15 U.S.C. 2622; the Solid Waste Disposal Act, 42 U.S.C. 6971; the Clean Air Act, 42 U.S.C. 7622; the Comprehensive Environmental Response, Compensation, and Liability Act, 42 U.S.C. 9610; the Energy Reorganization Act, 42 U.S.C. 5851; the Wendell H. Ford Aviation Investment and Reform Act for the 21st Century, 49 U.S.C. 42121; the Sarbanes-Oxley Act, 18 U.S.C. 1514A; the Pipeline Safety Improvement Act, 49 U.S.C. 60129; the Federal Railroad Safety Act, 49 U.S.C. 20109; the National Transit Systems Security Act, 6 U.S.C. 1142; the Consumer Product Safety Improvement Act, 15 U.S.C. 2087; the Affordable Care Act, 29 U.S.C. 218C; the Consumer Financial Protection Act, 12 U.S.C. 5567; the Seaman's Protection Act, 46 U.S.C. 2114; the FDA Food Safety Modernization Act, 21 U.S.C. 399d; and the Moving Ahead for Progress in the 21st Century Act, 49 U.S.C. 42121.

Signed at Washington, DC, on May 6, 2014.
David Michaels,
Assistant Secretary of Labor for Occupational Safety and Health.

[FR Doc. 2014-10921 Filed 5-12-14; 8:45 am]

BILLING CODE 4510-26-P